DEPARTMENT OF TRANSPORTATION

Federal Aviation Administration

[Summary Notice No. PE-2003-63]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Sandy Buchanan-Sumter (202) 267-7271, or Timothy R. Adams (202) 267-8033, Office of Rulemaking (ARM-1), Federal Aviation Administration, 800 Independence Avenue, SW., Washington, DC 20591.

This notice is published pursuant to 14 CFR 11.85 and 11.91.

Issued in Washington, DC, on October 30, 2003.
Donald P. Byrne,
Assistant Chief Counsel for Regulations.

Dispositions of Petitions

Docket No.: FAA-2001-8936.

Petitioner: Robert P. Lavery.

Section of 14 CFR Affected: 14 CFR 91.109(a) and (b)(3).

Description of Relief Sought/Disposition: To permit Robert P. Lavery to conduct certain flight instruction and simulated instrument flights to meet the recent instrument experience requirements in certain Beechcraft airplanes equipped with a functioning thow-over control wheel in place of functioning dual controls. Grant, 07/30/2003, Exemption No. 7571A.

Docket No.: FAA-2001-8878.

Petitioner: American Airlines Flight Academy.

Section of 14 CFR Affected: 14 CFR 121.434(c)(1)(ii).

Description of Relief Sought/Disposition: To permit American Airlines Flight Academy to substitute a qualified and authorized check airman or aircrew program designee for an FAA inspector to observe a qualifying PIC who is completing initial or upgrade training specified in § 121.424 during at least one flight leg that includes a takeoff and a landing, subject to certain conditions and limitations. Grant, 08/04/2003, Exemption No. 6916B.

Docket No.: FAA-2003-14748.

Petitioner: Aviation Services Group, Inc.

Section of 14 CFR Affected: 14 CFR 135.89(b)(3).

Description of Relief Sought/Disposition: To permit Aviation Services Group, Inc. to operate pressurized aircraft at altitudes above 35,000 feet mean sea level without one pilot at the controls wearing and using an oxygen mask. Denial, 08/04/2003, Exemption No. 8105.

Docket No.: FAA-2002-12681.

Petitioner: Mr. Jarle Boe.

Section of 14 CFR Affected: 14 CFR 119.33(b)(1).

Description of Relief Sought/Disposition: To permit Mr. Boe to conduct commercial passenger or cargo aircraft operations for compensation or hire under part 135 without being a U.S. citizen. Denial, 08/04/2003, Exemption No. 8106.

Docket No.: FAA-2003-15395.

Petitioner: Delta Air Lines. Inc.

Section of 14 CFR Affected: 14 CFR 121.440(a) and SFAR 58, paragraph 6(b)(3)(ii)(A).

Description of Relief Sought/Disposition: To permit Delta to meet line check requirements using an alternative line check program, subject to certain conditions and limitations. Grant, 08/04/2003, Exemption No. 8107.

Docket No.: FAA-2002-13688.

Petitioner: Promech, Inc.

Section of 14 CFR Affected: 14 CFR 135.203(a)(1)

Description of Relief Sought/Disposition: To permit Promech to conduct operations under visual flight rules outside controlled airspace, over water, at an altitude below 500 feet above the surface, subject to certain conditions and limitations. Grant, 08/04/2003, Exemption No. 8108.

Docket No.: FAA-2003-15436.

Petitioner: Ace Aviation Services Corporation.

Section of 14 CFR Affected: 14 CFR 135.145.

Description of Relief Sought/Disposition: To permit Ace Aviation Services Corporation to place turbo jet airplanes in service under part 135 without conducting proving flights. Denial, 08/05/2003, Exemption No. 8104.

Docket No.: FAA-2001-10265.

Petitioner: RR Investments Inc., d.b.a. Million Air Dallas.

Section of 14 CFR Affected: 14 CFR 135.143(c)(2).

Description of Relief Sought/Disposition: To permit Million Air Dallas to operate certain aircraft under part 135 without a TSO-C112 (Mode S) transponder installed on those aircraft. Grant, 08/08/2003, Exemption No. 6718C.

Docket No.: FAA-2003-15828.

Petitioner: Rainier Heli-Life, Inc.

Section of 14 CFR Affected: 14 CFR 135.143(c)(2).

Description of Relief Sought/Disposition: To permit Rainier Heli-Life, Inc. to operate certain aircraft under part 135 without a TSO-C112 (Mode S) transponder installed on those aircraft. Grant, 08/08/2003, Exemption No. 8109.

Docket No.: FAA-2001-10262.

Petitioner: Petroleum Helicopters, Inc.

Section of 14 CFR Affected: 14 CFR 135.143(c)(2).

Description of Relief Sought/Disposition: To permit Petroleum Helicopters, Inc. to operate certain aircraft under part 135 without a TSO-C112 (Mode S) transponder installed on those aircraft. Grant, 08/14/2003, Exemption No. 5586E.

Docket No.: FAA-2003-15784.

Petitioner: Denmark Volunteer Fire Department.

Section of 14 CFR Affected: 14 CFR 135.251, 135.255, and 135.353, and appendices I and J to part 121.

Description of Relief Sought/Disposition: To permit the Denmark Volunteer Fire Department to conduct local sightseeing flights at the Eastern Slopes Regional Airport, Fryeburg, Maine, for sightseeing flights during August 2003, with a rain date in September, 2003, for compensation or hire, without complying with certain anti-drug and alcohol misuse prevention requirements of part 135. Grant, 08/14/2003, Exemption No. 8113.

Docket No.: FAA-2003-15883.

Petitioner: Vertical Flight Services, LLC.

Section of 14 CFR Affected: 14 CFR 135.143(c)(2).

Description of Relief Sought/Disposition: To permit Vertical Flight Services, LLC, to operate certain aircraft under part 135 without a TSO-C112 (Mode S) transponder installed on those aircraft. Grant, 08/14/2003, Exemption No. 8114.

Docket No.: FAA-2003-14563.

Petitioner: AirTran Airways, Inc.

Section of 14 CFR Affected: 14 CFR 93.123.

Description of Relief Sought/Disposition: To permit AirTran Airways, Inc. to conduct three operations at Ronald Reagan Washington National Airport (DCA) without the required slots. Grant, 08/14/2003, Exemption No. 8112.

Docket No.: FAA-2003-14827.

Petitioner: Comair, Inc.

Section of 14 CFR Affected: 14 CFR 93.123

Description of Relief Sought/Disposition: To permit Comair, Inc. to conduct three operations at Ronald Reagan Washington National Airport (DCA) without the required slots. Denied, 08/14/2003, Exemption No. 8112.

Docket No.: FAA-2003-14975.

Petitioner: Spirit Airlines, Inc.

Section of 14 CFR Affected: 14 CFR 93.123.

Description of Relief Sought/Disposition: To permit Spirit Airlines, Inc. to conduct three operations at Ronald Reagan Washington National Airport (DCA) without the required slots. Denial, 08/14/2003, Exemption No. 8112.

Docket No.: FAA-2001-8963.

Petitioner: Peninsula Airways, Inc. (PenAir).

Section of 14 CFR Affected: 14 CFR 121.709(b)(3).

Description of Relief Sought/Disposition: To permit properly trained PenAir flight crewmembers to install and/or remove medevac stretchers on PenAir Fairchild Metro III aircraft and make the appropriate entries in the aircraft records. Grant, 08/18/2003, Exemption No. 6674B.

Docket No.: FAA-2003-15744.

Petitioner: Arctic Air Service.

Section of 14 CFR Affected: 14 CFR 133.45(e)(1).

Description of Relief Sought/Disposition: To permit Arctic Air Service to conduct Class D rotorcraft-load combination operations with an Agusta A 109E helicopter certificated in the normal category under 14 CFR part 27, subject to certain conditions and limitations. Granted, 08/18/2003, Exemption No. 8116.

Docket No.: FAA-2002-12797.

Petitioner: Business Jet Services, Ltd.

Section of 14 CFR Affected: 14 CFR 135.152(b)(1).

Description of Relief Sought/Disposition: To permit Business Jet Services, Ltd. to operate two British Aerospace BAC 1-11 400 series airplanes under part 135 without recording the parameters listed within the ranges, accuracies, resolutions, and sampling intervals specified in appendix D to part 135. Denial, 08/18/2003, Exemption No. 8115.

Docket No.: FAA-2001-10875.

Petitioner: Fresh Water Adventures, Inc.

Section of 14 CFR Affected: 14 CFR 91.323(b)(4).

Description of Relief Sought/Disposition: To permit Fresh Water Adventures, Inc. to operate its Grumman Goose G-21A amphibian aircraft at a weight that is in excess of that airplane's maximum certificated weight. Grant, 08/21/2003, Exemption No. 7070B.

Docket No.: FAA-2001-11081.

Petitioner: Merlin Airways.

Section of 14 CFR Affected: 14 CFR 135.143(c)(2).

Description of Relief Sought/Disposition: To permit Merlin Airways to operate certain aircraft under part 135 without a TSO-C112 (Mode S) transponder installed on those aircraft. Grant, 08/21/2003, Exemption No. 7681A.

Docket No.: FAA-2001-10267.

Petitioner: Carver Aero, Inc.

Section of 14 CFR Affected: 14 CFR 135.143(c)(2).

Description of Relief Sought/Disposition: To permit Carver Aero, Inc. to operate certain aircraft under part 135 without a TSO-C112 (Mode S) transponder installed on those aircraft. Grant, 08/21/2003, Exemption No. 6229D.

Docket No.: FAA-2001-10162.

Petitioner: TIMCO Aviation Services, Inc.

Section of 14 CFR Affected: 14 CFR 145.45(f).

Description of Relief Sought/Disposition: To permit TIMCO Aviation Services, Inc. to place and maintain its inspection procedures manual (IPM) in technical libraries in its five facility locations and assign copies of the IPM to key individuals rather than give a copy to each of its supervisory and inspection personnel. This requirement, however, will no longer be applicable when Amendment No. 145-47, Repair Stations: Final Rule (66 FR 41088) becomes effective October 3, 2003. Under the new rule, FAA no longer requires certificated repair stations to keep an IPM. Grant, 08/25/2003, Exemption No. 7621A.

Docket No.: FAA-2003-15439.

Petitioner: United Parcel Service.

Section of 14 CFR Affected: 14 CFR 121.434(c)(1)(ii).

Description of Relief Sought/Disposition: To permit United Parcel Service to substitute a qualified and authorized check airman or aircrew program designee for an FAA inspector to observe a qualifying pilot in command who is completing initial or upgrade training specified in § 121.424 during at least one flight leg that includes a takeoff and a landing, subject to certain conditions and limitations. Grant, 08/26/2003, Exemption No. 8118.

Docket No.: FAA-2003-15969.

Petitioner: Northern Air Cargo, Inc.

Section of 14 CFR Affected: 14 CFR 135.143(c)(2).

Description of Relief Sought/Disposition: To permit Northern Air Cargo, Inc. to operate certain aircraft under part 135 without a TSO-C112 (Mode S) transponder installed on those aircraft, subject to certain conditions and limitations. Grant, 08/29/2003, Exemption No. 8121.

Docket No.: FAA-2003-15970.

Petitioner: Montana Aircraft, Inc.

Section of 14 CFR Affected: 14 CFR 135.143(c)(2).

Description of Relief Sought/Disposition: To permit Montana Aircraft, Inc. to operate certain aircraft under part 135 without a TSO-C112 (Mode S) transponder installed on those aircraft, subject to certain conditions and limitations. Grant, 08/29/2003, Exemption No. 8120.

Docket No.: FAA-2001-8787.

Petitioner: Yute Air Taxi, Inc.

Section of 14 CFR Affected: 14 CFR 135.143(c)(2).

Description of Relief Sought/Disposition: To permit Yute Air Taxi, Inc. to operate certain aircraft under part 135 without a TSO-C112 (Mode S) transponder installed on those aircraft, subject to certain conditions and limitations. Grant, 08/29/2003, Exemption No. 7505A.

Docket No.: FAA-2003-15953.

Petitioner: Boston-Maine Airways.

Section of 14 CFR Affected: 14 CFR 121.434(c)(1)(ii).

Description of Relief Sought/Disposition: To permit Boston-Maine Airways to substitute a qualified and authorized check airman or aircrew program designee for an FAA inspector to observe a qualifying pilot in command who is completing initial or upgrade training specified in § 121.424 during at least one flight leg that includes a takeoff and a landing, subject to certain conditions and limitations. Grant, 09/03/2003, Exemption No. 8122.

Docket No.: FAA-2001-10165.

Petitioner: The North Jersey Chapter, Ninety-Nines, Inc.

Section of 14 CFR Affected: 14 CFR 135.251, 135.255, and 135.353, and appendices I and J to part 121.

Description of Relief Sought/Disposition: To permit The North Jersey Chapter of the Ninety Nines, Inc. to conduct local sightseeing flights at the Lincoln Park Airport, Lincoln Park, New Jersey, during October, 2003, with a rain date during October, 2003, for compensation or hire, without complying with certain anti-drug and alcohol misuse prevention requirements of part 135. Grant, 09/04/2003, Exemption No. 8128.

[FR Doc. 03-27739 Filed 11-4-03; 8:45 am]

BILLING CODE 4910-13-P